DEPARTMENT OF AGRICULTURE

Forest Service

Revision of Land and Resource Management Plan for the National Forests in Mississippi

AGENCY: Forest Service, USDA.

ACTION: Revised Notice of Intent to prepare an environmental impact statement and the resumption of the land management plan revision.

SUMMARY: As directed by the National Forest Management Act, the USDA Forest Service is preparing the National Forests in Mississippi (NFsMS) revised land management plan (Forest Plan) and will also prepare an environmental impact statement (EIS) for this revised plan. This notice briefly describes the background history of NFsMS plan revision process to date, the nature of the decision to be made, the proposed action and need for change, and information concerning public participation. It also provides estimated dates for filing the EIS and the name and address of the responsible agency official and the individuals who can provide additional information. Finally, this notice briefly describes the applicable planning rule and how work done on the plan revision under the 2008 planning rule will be used or modified for completing this plan revision.

The revised Forest Plan will supersede the land and resource management plan previously approved by the Southern Region Regional Forester on September 16, 1985 and as amended seventeen times since original plan approval. This amended Forest Plan will remain in effect until the revised plan takes effect.

DATES: Comments concerning the need for change and the proposed action provided in this notice will be most useful in the development of the draft revised plan and draft environmental impact statement if received by May 7, 2010. The agency expects to release a draft revised Forest Plan and draft EIS for formal comment by October, 2010 and a final revised plan and final environmental impact statement by September, 2011.

ADDRESSES: Send written comments to: Forest Plan Revision, National Forests in Mississippi, 100 West Capitol St., Suite 1141, Jackson, MS 39269. Comments may also be sent via e-mail to Mississippi_Plan@fs.fed.us (include “Forest Plan Revision” in the subject line.

FOR FURTHER INFORMATION CONTACT: National Forests in Mississippi, Planning Team Leader, Jeff Long, 100 West Capitol Street, Suite 1141, Jackson, MS 39269 (phone 601-965-1600). Electronic mail should include “Forest Plan Revision” in the subject line and sent to: Mississippi_Plan@fs.fed.us. Information on this revision is also available at the National Forests in Mississippi Web site: http://www.fs.fed.us/r8/mississippi/.

Individuals who use telecommunication devices for the deaf (TDD) may call the Federal Information Relay Service (FIRS) at 800-877-8339 between 8 a.m. and 8 p.m., Eastern Time Monday through Friday.

A. Background

A Notice of Intent to begin the plan revision process for the NFsMS was first published in the Federal Register on December 14, 1999 [64 FR 69686-69691]. A collaborative, participatory role for the public has always been a part of the plan revision approach for the NFsMS. Although the process has had various delays and transitions, numerous meetings and working sessions along with extended informal feedback opportunities have provided a variety of ideas and input throughout the course of plan revision.

After initiating the plan revision process at the end of 1999, a series of public meetings were held in 2000 across the State of Mississippi to explain the plan revision process, get input on the issues important to stakeholders, and receive feedback on anticipated plan components. A total of 847 participants attended the 24 open house sessions that were conducted at various libraries, community centers, district offices, and local auditoriums near each of the Mississippi national forests. Over 6,000 individual comments were generated.

Changes in national priorities and funding shifts caused a delay of several years in the revision process. The NFsMS published a revised NOI in the Federal Register on September 26, 2003 (68 FR 55576-55580). The 2003 revised NOI provided public notice announcing resumption of plan revision activities, updated the projected schedule for plan revision and provided an opportunity for additional public comments on the scope of analysis for plan revision. An additional 12 public meetings were held from September through November 2004 at locations near each of the national forests and were attended by 237 individuals. Revision issues identified at the time included access management (off-highway vehicle issues); ecosystem management (ecological community diversity, fire management, forest health, invasive species, old-growth, riparian areas, vegetation management, watershed conditions); special designations (wilderness areas, wild and scenic rivers, research natural areas and other special area recommendations); and threatened, endangered, and sensitive species management (particularly red-cockaded woodpeckers and gopher tortoise).

In July 2005, the NFsMS Forest Plan revision process, which had begun under the 1982 Planning Rule, was transitioned to the 2005 Planning Rule. Notice of adjustment to an ongoing plan revision process was published in the Federal Register on July 27, 2005 (70 FR 43391-43392). At this point, the NFsMS had already conducted many public participation opportunities prior to transitioning to the 2005 rule, including over 35 public meetings and open houses; numerous agency contacts; and a variety of mailings, newsletters, Web site postings, and requests for comments. An important factor in the transition was ensuring that public feedback received in the earlier revision stages was included and considered under the new process. In addition to reviewing previous stakeholder input, another seven public meetings or workshops were held across the State from late 2005 to early 2006 and attended by approximately 210 participants. That round of working sessions exchanged information on the changes in the new planning process and focused on the public's vision for the future of the NFsMS. On August 29, 2005 Hurricane Katrina made land fall on the Gulf Coast causing extreme broad-scale damage along the Mississippi Gulf Coast. While plan revision efforts continued most national forest resources and personnel were devoted to recovery efforts, protracting the NFsMS plan revision timeline.

On March 30, 2007, the Federal District Court for the Northern District of California enjoined the Department from implementing and using the 2005 planning rule until the Agency complied with the court's order regarding the National Environmental Policy Act, the Endangered Species Act, and the Administrative Procedure Act (Citizens for Better Forestry v. USDA, 481 F. Supp 2d 1059 (N.D. Cal. 2007)). Revision of the National Forests in Mississippi land management plan under the (36 CFR 219 (2005)) rule was suspended in response to the injunction.

Prior to the injunction of the 2005 planning rule, the National Forests in Mississippi had substantially engaged the public in collaboration efforts to develop plan components, completed a draft Comprehensive Evaluation Report, worked with the scientific community on addressing concerns for species viability and sustainability to be addressed in the revised plan, had developed a model for timber suitability and sustainability analysis, and had completed initial drafts of major plan components.

On April 21, 2008 the Forest Service adopted a new planning rule that allowed resumption of the revision process if it conformed to the new planning rule (36 CFR 219.14(b)(3)(ii), 2008). Notification of adjustment for resuming the land management plan revision process under the 36 CFR 219 (2008) rule for the NFsMS was published in the Federal Register on October 24, 2008 [73 FR 63433-63434]. The NFsMS in Mississippi developed a draft revised Forest Plan consistent with the 2008 rule, however prior to public release for review and comment the 2008 planning rule was enjoined by Federal Court order. On June 30, 2009, the 2008 planning rule was enjoined by the United States District Court for the Northern District of California and the revision of the NFsMS Forest Plan was again suspended.

B. Applicable Planning Rule

Preparation of the NFsMS revised plan was underway when the 2008 National Forest System land management planning rule was enjoined on June 30, 2009, by the United States District Court for the Northern District of California (Citizens for Better Forestry v. United States Department of Agriculture, No. C 08-1927 CW (N.D. Cal. June 30, 2009). The Department has determined that the 2000 planning rule is now back in effect. The 2000 Rule's transition provisions (36 CFR 219.35), amended in 2002 and 2003 and clarified by interpretative rules issued in 2001 and 2004, and reissued on December 18, 2009 (74 FR 67059-67075) allow use of the provisions of the National Forest System land and resource management planning rule in effect prior to the effective date of the 2000 Rule (November 9, 2000), commonly called the 1982 planning rule, to amend or revise plans. The NFsMS has elected to use the provisions of the 1982 planning rule, including the requirement to prepare an EIS, to complete its plan revision.

C. Name and Address of the Responsible Official

The responsible official who will approve the Record of Decision is Elizabeth Agpaoa, Regional Forester, USDA Forest Service, Southern Region, 1720 Peachtree Road NW., Atlanta, GA 30309.

D. Nature of the Decision To Be Made

The NFsMS is preparing an EIS to revise the current Forest Plan. The EIS process is meant to inform the Regional Forester so that she can decide which alternative best meets the diverse needs of the people while protecting the forest's resources, as required by the National Forest Management Act and the Multiple Use Sustained Yield Act. The Revised Forest Plan will establish management direction for the next 10 to 15 years.

A Forest Plan developed under the 1982 planning rule procedures will make the following primary decisions:

1. Establishment of forest-wide multiple-use goals and objectives (36 CFR 219.11(b));

2. Establishment of forest-wide management requirements (36 CFR 219.13 to 219.27);

3. Establishment of multiple-use prescriptions and associated standards for each management area (36 CFR 219.11(c));

4. Determination of land that is suitable for the production of timber (16 U.S.C. 1604(k) and 36 CFR 219.14);

5. Establishment of the allowable sale quantity for timber within a time frame specified in the plan (36 CFR 219.16);

6. Establishment of monitoring and evaluation requirements (36 CFR 219.11(d));

7. Recommendations concerning roadless areas that Congress could designate as wilderness (36 CFR 219.17); and

It is also important to identify the types of decisions that will not be made within the revised forest plan. Forest Plans typically do not make site-specific decisions but they do establish limitations on what actions may be authorized and what conditions must be met as part of project-level decision-making. The authorization of site-specific activities within a plan area later occurs through project decision-making that must comply with NEPA procedures and must include a determination that the project is consistent with the Forest Plan.

E. Prior Plan Revision Efforts

Although the 2008 planning rule is no longer in effect, the information gathered from public collaboration efforts and most of the analysis conducted prior to the court's injunction in June 2009 is still useful for completing the plan revision using the provisions of the 1982 planning regulations. The NFsMS has concluded that the following material developed during the plan revision process to date is appropriate for continued use:

• The inventory of potential wilderness areas that was conducted between 2004 and 2008 is still consistent with the 1982 planning regulations, and will be brought forward into this plan revision process.

• A Comprehensive Evaluation Report was developed under the 2005 and 2008 rule provisions. This analysis has been updated with additional information to meet the requirements of the Analysis of the Management Situation (AMS) provisions of the 1982 rule. The information from this analysis was used to help identify the need for change and the proposed actions that are identified in this notice. Comments received during the scoping process will be used to further update the need for change analysis. Other AMS requirements will also continue to be worked on as the planning process proceeds.

• Information on the life history, threats, habitat needs and population trends of a number of terrestrial and aquatic species contained in the forest planning records for ecosystem and species diversity assessments will continue to be used as a reference in the planning process as appropriate to meet the requirements of the 1982 planning regulations. This is scientific information and is not affected by the change of the planning rule. This information will be updated with any new available information.

• Public comments previously submitted in writing or recorded at past public meetings relating to the previous plan revision efforts will still be used to help identify issues and concerns and to help identify alternatives to address these issues and concerns.

F. Preliminary Issues and Need for Change

According to the National Forest Management Act, forest plans are to be revised on a 10 to 15 year cycle. The current forest plan is over 24 years old, and since the forest plan was approved in 1985, there have been changes in economic, social, and ecological conditions, new policies and priorities, and new information based on monitoring and scientific research.

The following issues identify some of the major evolving conditions and shifts in management direction, scientific understanding, and public interests since the 1985 Forest Plan:

• New emphasis on restoring and sustaining a diversity of native ecosystems (particularly restoration of native longleaf pines) instead of focusing on timber commodities production in the 1985 Plan.

• Shift from vegetation management as a means of more efficient timber harvest and production to a tool for carrying out restoration goals while sustaining healthy resilient forests that also supply desired goods and services.

• More emphasis on protecting and promoting habitat for threatened and endangered (T&E) species (especially red-cockaded woodpecker and gopher tortoise).

• Better understanding of the historic role of fire and the need for an aggressive prescribed fire program to maintain fire-dependent native ecosystems, reverse habitat loss for endangered species, reduce fuel hazards, control non-native invasive species, and protect human safety.

• Increasing population and development adjacent to national forest lands are putting growing pressures on conducting effective management practices.

• Growing demand for recreation opportunities, particularly developed recreation sites.

• Need for a more sustainable system of access roads, trails, and bridges.

• Need for addressing the effects of increasing weather disturbances and incorporating strategies for responding to anticipated climate changes in our management practices.

G. Proposed Action

The NFsMS will complete plan revision following the 1982 planning rule procedures. The NFsMS will utilize past plan revision activities and make appropriate adjustments to planning documents and analysis processes to conform to the 1982 planning procedures. Public collaboration on development of this EIS and continued development of a revised Forest Plan will build upon information gathered previously where the NFsMS was in the revision process just prior to the Court injunction issued on the 2008 planning rule on June 30, 2009. The NFsMS had completed development of a draft revised Forest Plan, however the draft plan was not released for public comment prior to the injunction of the 2008 planning rule. Therefore, the NFsMS will not circulate the draft plan prepared under the 2008 procedures for public review and comment; however, appropriate portions will become a starting point for public collaboration on the development of the revised plan under the 1982 procedures.

Several overarching themes have emerged over time in the various efforts to revise the forest plan, which now provide a framework for developing the Proposed Action alternative for this EIS. These themes include:

1. Restore native ecological systems—Restoration of native ecological systems has emerged as a major desired condition for stakeholders. Twenty-four native ecological systems have been identified on the NFsMS, including 9 unique communities or uncommon local features. Priorities for achieving desired conditions include conversion of loblolly and slash pine stands to longleaf pine and shortleaf pine-oak ecosystems, restoration of floodplain forests, and continued maintenance and enhancement of native hardwood ecosystems and unique communities such as native prairies and bogs. Proposed strategies and objectives include the conversion of approximately 23,000 acres to appropriate ecosystems and structural, age, and species improvements on approximately 150,000 acres during the first planning period.

2. Protect diversity of species—One of the basic tenants of revising the plan is that managing for a diversity of healthy native ecosystems is integral to providing appropriate ecological conditions for a diversity of plant and animal species. In gathering information for revising the plan, a list of all potential species that could occur on the NFsMS has been developed and analyzed through a series of collaborative meetings with technical experts and taxonomic specialists familiar with the plant and animal species across Mississippi. Species that could possibly occur on the NFsMS were further evaluated through a series of iterative screenings. As the strategic direction of the revised plan is being developed, the specific needs and habitats of species on the lists will be addressed, primarily through ecosystem diversity management strategies, but also though integrated programs for soils, water, fire regimes, and other resource areas. T&E species protection and habitat enhancement are important priorities in revising the plan, so the needs of the 9 T&E species identified as potentially occurring on the NFsMS will particularly be emphasized. This process will continue throughout plan revision development, including the identification of Management Indicator Species.

3. Manage for healthy forests—A shift in focus from commodity production to native ecosystem restoration and forest health is being proposed. Vegetation management practices support a variety of integrated resource strategies including converting loblolly and slash pine plantings to native ecosystems, creating a diversity of habitats, improving resilience to natural disturbances and a changing climate, reducing impacts of insects and diseases, controlling non-native invasive species, and producing quality timber commodities.

4. Conserve old growth communities—A diversity of tree ages, from regeneration to old growth, is proposed to support a sustainable mix of ecological conditions across the landscape. The overall proposed strategy is to establish old growth stands across all ecological systems and all districts, with at least 10% of all forested ecosystems in old growth conditions.

5. Restore historic fire conditions—On the NFsMS, periodic prescribed burning has become an important tool for recreating historic fire regimes and reducing the risk of catastrophic fires while restoring conditions that favor desirable native ecosystems and habitats for T&E species. A proposed strategy is to continue the prescribed burning levels of recent years, with an average of 205,000 acres per year. The frequency of return intervals for prescribed burns and the percent of burns conducted during the growing season would vary depending on the ecosystem and habitat needs.

6. Manage for healthy watersheds—Productive soils, clean water, and clean air were important desired conditions identified by stakeholders and are essential to sustaining the ecological function and productive capacity of NFsMS lands. Proposed management strategies focus on using best management practices for sustaining and improving watershed areas within national forest control while working cooperatively with other agencies and landowners to improve statewide watershed health. Proposed objectives include the restoration of approximately 10 miles of stream channel every 5 years in conjunction with culvert replacement to improve aquatic organism passage, and the improvement of approximately 10-15 acres of degraded watershed areas each year.

7. Maintain sustainable infrastructure and access—It is proposed that the main priorities for managing the roads, trails, and facilities that make up the NFsMS infrastructure would involve the safety and maintenance of existing systems. This would include addressing the backlog of repairs and upgrades, improvements for environmental protection, disposal of facilities that are no longer needed, and rehabilitation of user-created trails and roads. Infrastructure additions are anticipated to be limited and dependent on funding availability.

8. Maintain sustainable recreation—Proposed strategies for sustaining outdoor recreation opportunities on the NFsMS under anticipated funding levels focus on maintaining and improving existing dispersed recreation opportunities and developed recreation sites, with the addition of new facilities and amenities dependent on expanding local and State-wide partnerships.

9. Provide stable economic benefits—The national forest activities that generate the majority of the revenues that feed back into the local economy in Mississippi come from timber, minerals, and recreation. As a result of the proposal to restore native ecosystems to appropriate sites and maintaining healthy and resilient forests, it is anticipated that there would be a steady flow of economic benefits similar to those received in recent years.

10. Adapt to changing conditions—An increase in extreme weather events is the climate change factor most likely to affect the NFsMS in the next 10-15 years. Proposed strategies include reducing vulnerability by maintaining and restoring resilient native ecosystems, enhancing adaptation by reducing serious disturbances and taking advantage of disruptions, using preventative measures to reduce opportunities for forest pests, and mitigating greenhouse emissions by reducing carbon loss from hurricanes.

H. Preliminary Alternatives

Information gathered during this comment period, as well as other feedback, will be used to identify issues that will serve as a focus for developing alternatives to be analyzed in the draft EIS.

I. Public Involvement

The public is invited to provide comments on this NOI, especially regarding the scope of analysis for the items identified under Need for Change and Proposed Action sections above. Additional information is available on the National Forests in Mississippi Web site: http://www.fs.fed.us/r8/mississippi/.

Notice of public meeting times and places will be posted on the above Web site and will also be published in the newspaper of record (legal notice section) for National Forests in Mississippi (Clarion-Ledger—Jackson, Mississippi).

It is important that reviewers provide their comments at such times and in such a way that they are useful to the Agency's preparation of the revised plan and the EIS. Therefore, comments on the proposed action and need for change will be most valuable if received by May 7, 2010 and should clearly articulate the reviewers' concerns. The submission of timely and specific comments can affect a reviewer's ability to participate in subsequent administrative or judicial review. At this time, we anticipate using a pre-decisional objection process for administrative review.

Comments received in response to this solicitation, including the names and addresses of those who comment will be part of the public record for this proposed action. Comments submitted anonymously will be accepted and considered.

Authority: 16 U.S.C. 1600-1614; 36 CFR 219.35 [74 FR 67073-67074].

Dated: March 2, 2010._
Margrett L. Boley,
Forest Supervisor.

[FR Doc. 2010-4932 Filed 3-10-10; 8:45 am]

BILLING CODE 3410-11-P